DEPARTMENT OF THE INTERIOR

National Park Service

[NPS-NERO-STSP-22113; PPNESTSP00, PPMPSPD1Z.YM0000]

Notice of Meeting for the Star-Spangled Banner National Historic Trail Advisory Council

AGENCY: National Park Service, Interior.

ACTION: Notice of meeting.

SUMMARY: As required by the Federal Advisory Committee Act (5 U.S.C. Appendix 1-16), the National Park Service is hereby giving notice that the Star-Spangled Banner National Historic Trail Advisory Council will hold a meeting on Monday, January 23, 2017, in Baltimore, Maryland.

DATES: The Star-Spangled Banner National Historic Trail Advisory Council will meet from 10 a.m. to 2 p.m. on Monday, January 23, 2017. (EASTERN)

ADDRESSES: The meeting will be held at the Fort McHenry National Monument and Historic Shrine, 2400 E. Fort Avenue, Baltimore, Maryland 21030.

FOR FURTHER INFORMATION CONTACT: Charles Grady, Assistant Superintendent and Designated Federal Official, Fort McHenry National Monument and Historic Shrine, Hampton National Historic Site, Star-Spangled Banner National Historic Trail, National Park Service, telephone (410) 962-4290, or email Charles_Grady@nps.gov.

This meeting is open to the public. Preregistration is required for both public attendance and comment. Any individual who wishes to attend the meeting and/or participate in the public comment session should register via email at Neil_Heinlein@nps.gov or telephone (410) 962-4290. For those wishing to make comments, please provide a written summary of your comments prior to the meeting.

SUPPLEMENTARY INFORMATION: Designated through an amendment to the National Trails System Act (16 U.S.C. 1241 to 1251, as amended), the trail consists of “water and overland routes totaling approximately 290 miles, extending from Tangier Island, Virginia, through southern Maryland, the District of Columbia, and northern Virginia, in the Chesapeake Bay, Patuxent River, Potomac River, and north to the Patapsco River, and Baltimore, Maryland, commemorating the Chesapeake Campaign of the War of 1812 (including the British invasion of Washington, District of Columbia, and its associated feints, and the Battle of Baltimore in summer 1814).”

Topics to be discussed include setting priorities for the trail in the coming years and reporting of past year's actions.

The Council meeting is open to the public. Comments will be taken for 30 minutes at the end of the meeting (from 1:30 p.m. to 2 p.m.). Before including your address, telephone number, email address, or other personal identifying information in your comment, you should be aware that your entire comment—including your personal identifying information—may be made publicly available at any time. While you may ask us in your comment to withhold your personal identifying information from public review, we cannot guarantee that we will be able to do so. All comments will be made part of the public record and will be electronically distributed to all Council members.

Alma Ripps,
Chief, Office of Policy.

[FR Doc. 2016-25546 Filed 10-20-16; 8:45 am]

BILLING CODE 4312-52-P